DEPARTMENT OF AGRICULTURE

Forest Service

Kootenai and Idaho Panhandle National Forests Proposed Land Management Plans

AGENCY: Forest Service, USDA.

ACTION: Extension of comment period on the Proposed Land Management Plans for the Kootenai and Idaho Panhandle National Forests.

SUMMARY: The Forest Service published a notice in the Federal Register on May 12, 2006 initiating a 90-day comment period on the Proposed Land Management Plans for the Kootenai and Idaho Panhandle National Forests. The closing date for submitting comments has been extended to September 9, 2006.

ADDRESSES: Comments on the Kootenai Plan should be sent to: KIPZ Forest Plan Revision Team, Kootenai National Forest, 1101 Hwy 2 West, Libby, Montana 59923. Comments on the Idaho Panhandle Plan should be sent to: KIPZ Forest Plan Revision Team, Idaho Panhandle National Forests, 3815 Schreiber Way, Coeur d'Alene, Idaho 83815. Comments by e-mail should be sent to: rl_kipz_@fs.fed.us.

DATES: The comment period closing date has been extended, from August 10, 2006 to September 9, 2006.

FOR FURTHER INFORMATION CONTACT: Kirsten Kaiser at 406-283-7659 or Jodi Kramer at 208-765-7235.

SUPPLEMENTARY INFORMATION: In the Federal Register of May 12, 2006, (FR Vol. 71, Num. 92, page 27671) the Forest Service initiated a 90-day comment period on the Proposed Land Management Plans for the Kootenai and Idaho Panhandle National Forests. The closing date for submitting comments has been extended from August 10, 2006 to September 9, 2006.

Pursuant to 36 CFR 219.9(b)(2), the Kootenai and Idaho Panhandle National Forests are extending the comment period on their Proposed Forest Land Management Plans to September 10, 2006. The Plans are available for viewing and downloading at the Web site http://www.fs.fed.us/kipz. Compact Discs (CDs) of the Plans were mailed to persons who have requested a copy and are available to others upon request. Plans are also available for viewing at the Supervisors Offices and Ranger Stations on the Kootenai and Idaho Panhandle Forests. Plan supporting documentation (the comprehensive evaluation report) is posted on the Web site and is available by CD upon request.

The opportunity to object to a Final Plan will be during a 30-day objection period before Plan approval (36 CFR 219.13(a)). Only individuals or organizations, other than a federal agency, who participated in the planning process through the submission of written comments, may object to a Plan.

Please note that all comments, names, and addresses become part of the public record and are subject to the Freedom of Information Act (FOIA), except for proprietary documents and information.

Dated: July 28, 2006.
Ranotta K. McNair,
Forest Supervisor, Idaho Panhandle National Forests.

[FR Doc. 06-6657 Filed 8-3-06; 8:45 am]

BILLING CODE 3410-11-M